DEPARTMENT OF ENERGY

Federal Energy Regulatory Commission

[Project No. 3820-011]

Aclara Meters, LLC; Notice of Withdrawal of Existing Licensee's Notice of Intent To File a New License Application, and Soliciting Pre-Application Documents and Notices of Intent To File a New License Application

On August 31, 2016, Aclara Meters, LLC (Aclara or licensee) filed a Notice of Intent (NOI) to file an application for a new license for its Somersworth Hydroelectric Project No. 3820 (project), pursuant to section 16.6 of the Commission's regulations.¹ On October 6, 2016, Commission staff issued a public notice of the NOI and approved the use of the traditional licensing process to develop the license application. The existing license for the project expires on August 31, 2021.²

¹ 18 CFR 16.6 (2018). At least five years before the expiration of a license for a major water power project, the licensee must file with the Commission an NOI that contains an unequivocal statement of the licensee's intention to file or not to file an application for a new license.

² The license for the project was issued with an effective date of September 1, 1981, for a term of 40 years. General Electric Company, 16 FERC 62,598 (1981).

On March 29, 2019, Aclara filed an application to surrender its license for the project.³ In its filing, Aclara states that it will no longer seek to relicense the Somersworth Hydroelectric Project, and instead seeks to surrender its existing license. Accordingly, Aclara's surrender application is also deemed to be a withdrawal of its NOI to file an application for a new license for the project.

³ The surrender application filing may be viewed on the Commission's website at http://www.ferc.gov/docs-filing/elibrary.asp. Enter the docket number excluding the last three digits in the d Aclara Meters, LLC docket number field to access the document. The Commission is not seeking public comment on the surrender application (Docket No. P-3820-012) at this time.

Pursuant to section 16.25(a) of the Commission's regulations, when an existing licensee, having previously filed an NOI to file a new license for a project, subsequently does not file an application for a new license, the Commission must solicit applications from potential applicants other than the existing licensee.⁴ Any party interested in filing a license application or exemption (i.e., a potential applicant) for the project must file an NOI and pre-application document within 90 days from the date of this notice.⁵ While the integrated licensing process is the default process for preparing an application for a new license, a potential applicant may request to use alternative licensing procedures when it files its NOI.⁶ An application for a new license or exemption for the Somersworth Hydroelectric Project No. 3820 must be filed within 18 months of the date of filing the NOI.

⁴ 18 CFR 16.25(a) (2018).

⁵ Pursuant to section 16.24(a)(2) of the Commission's regulations, the existing licensee is prohibited from filing an application either individually or in combination with other entities. 18 CFR 16.24(a)(2) (2018).

⁶ 18 CFR 5.3(b) (2018).

Questions concerning the process for filing an NOI should be directed to Patrick Crile at 202-502-8042 or Patrick.Crile@ferc.gov.

Dated: April 26, 2019.
Nathaniel J. Davis, Sr.,
Deputy Secretary.

[FR Doc. 2019-08906 Filed 5-1-19; 8:45 am]

BILLING CODE 6717-01-P